DEPARTMENT OF TRANSPORTATION

Federal Aviation Administration

14 CFR Part 39

[Docket No. 2001-NM-285-AD]

RIN 2120-AA64

Airworthiness Directives; BAE Systems (Operations) Limited Model ATP Airplanes

AGENCY: Federal Aviation Administration, DOT.

ACTION: Notice of proposed rulemaking (NPRM).

SUMMARY: This document proposes the adoption of a new airworthiness directive (AD) that is applicable to all BAE Systems (Operations) Limited Model ATP airplanes. This proposal would require a one-time inspection of the fuel pipes within the fuel “float switch” test pipelines in the left and right inner wings for evidence of damage, cracks, misalignment, or fuel leakage; follow-on corrective actions, if necessary; and repetitive replacement of the fuel pipes at regular intervals. This action is necessary to prevent fuel vapors from collecting in the dry bay of the wing torsion box and consequent risk of an explosion due to fuel leakage. This action is intended to address the identified unsafe condition.

DATES: Comments must be received by March 31, 2003.

ADDRESSES: Submit comments in triplicate to the Federal Aviation Administration (FAA), Transport Airplane Directorate, ANM-114, Attention: Rules Docket No. 2001-NM-285-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-285-AD” in the subject line and need not be submitted in triplicate. Comments sent via the Internet as attached electronic files must be formatted in Microsoft Word 97 for Windows or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-285-AD.” The postcard will be date stamped and returned to the commenter.

Availability of NPRMs

Any person may obtain a copy of this NPRM by submitting a request to the FAA, Transport Airplane Directorate, ANM-114, Attention: Rules Docket No. 2001-NM-285-AD, 1601 Lind Avenue, SW., Renton, Washington 98055-4056.

Discussion

The Civil Aviation Authority (CAA), which is the airworthiness authority for the United Kingdom, notified the FAA that an unsafe condition may exist on all BAE Systems (Operations) Limited Model ATP airplanes. The CAA advises that it has received a report of failures of the fuel pipes within the “fuel float” test pipelines in the left and right inner wings due to fatigue. Leakage from these pipes allows fuel vapors to collect within the dry bay of the wing torsion box, which contains electrical equipment. This condition, if not corrected, could result in ignition of fuel vapors within the dry bay of the wing torsion box and consequent risk of an explosion.

Explanation of Relevant Service Information

BAE Systems (Operations) Limited has issued Service Bulletin ATP-28-019, dated March 16, 2001, which describes procedures for inspection of the fuel pipes within the fuel “float switch” test pipelines in the left and right inner wings for evidence of damage, cracks, misalignment, or fuel leakage; and replacement of any discrepant fuel pipe with a new or serviceable pipe.

BAE Systems (Operations) Limited has also issued Service Bulletin ATP-28-020, dated January 25, 2002, which describes procedures for a records check to determine the accumulation of time on the fuel pipes within the fuel “float switch” test pipelines, and replacement of those pipes upon reaching their maximum safe-life limit. This service bulletin also recommends that operators submit findings of damaged pipes to BAE Systems (Operations) Limited following replacement of those damaged pipes.

Accomplishment of the actions specified in these service bulletins is intended to adequately address the identified unsafe condition.

The CAA classified these service bulletins as mandatory and issued British airworthiness directives 003-03-2001 and 008-01-2002 in order to assure the continued airworthiness of these airplanes in the United Kingdom.

FAA's Conclusions

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Differences Between Proposed AD, British AD, and Service Bulletin

Operators should note that, although this proposed AD would require that the actions be accomplished within 90 days after the effective date of this AD, the British AD and BAE Systems (Operations) Limited Service Bulletin ATP-28-020 do not recommend a compliance time for the proposed records check. In developing an appropriate compliance time for this proposed action, we considered the degree of urgency associated with addressing the subject unsafe condition, the average utilization of the affected fleet, and the time necessary to perform the check (less than one hour). In light of all of these factors, we find a 90-day compliance time for completing the proposed records check to be warranted, in that it represents an appropriate interval of time allowable for affected airplanes to continue to operate without compromising safety.

Although BAE Systems (Operations) Limited Service Bulletin ATP-28-020 recommends operators report findings to the manufacturer after replacement of damaged pipes, this AD does not include such a reporting requirement.

Cost Impact

The FAA estimates that 3 Model ATP airplanes of U.S. registry would be affected by this proposed AD.

It would take approximately 6 work hours per airplane to accomplish the proposed inspection, at an average labor rate of $60 per work hour. Based on these figures, the cost impact of the proposed inspection on U.S. operators is estimated to be $1,080, or $360 per airplane.

It would take approximately 1 work hour per airplane to accomplish the proposed records check, at an average labor rate of $60 per work hour. Based on these figures, the cost impact of the proposed records check on U.S. operators is estimated to be $180, or $60 per airplane.

It would take approximately 5 work hours per airplane to accomplish the proposed replacement, at an average labor rate of $60 per work hour. Required parts would be provided by the manufacturer at no cost to the operators. Based on these figures, the cost impact of the proposed replacement on U.S. operators is estimated to be $900, or $300 per airplane, per replacement cycle.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2001-NM-285-AD.

Applicability: All Model ATP airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent fuel vapors from collecting in the dry bay of the wing torsion box and consequent risk of an explosion due to fuel leakage, accomplish the following:

Inspection and Records Check

(a) Within 90 days after the effective date of this AD, do the actions specified in paragraphs (a)(1) and (a)(2) of this AD.

(1) Do a general visual inspection of the fuel pipes within the fuel “float switch” test pipelines in the left and right inner wings for evidence of damage, cracks, misalignment, or fuel leakage; per BAE Systems (Operations) Limited Service Bulletin ATP-28-019, dated March 16, 2001.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(2) Perform a check of the airplane records to determine the actual time on the fuel pipes within the “float switch” test pipelines, per BAE Systems (Operations) Limited Service Bulletin ATP-28-020, dated January 25, 2002. This records check may be performed either by the cockpit flight crew or by certificated maintenance personnel.

Repetitive Replacement

(b) If no damage, crack, misalignment, or fuel leakage is found during the inspection required by paragraph (a)(1) of this AD, prior to further flight, reinstall the fuel pipes within the “float switch” test pipelines per BAE Systems (Operations) Limited Service Bulletin ATP-28-020, dated January 25, 2002. Thereafter, replace those pipes with new pipes at the applicable times specified in paragraph (b)(1) or (b)(2) of this AD per the service bulletin.

(1) For fuel pipes that, as of the effective date of this AD, have accumulated less than 10,000 total flight hours or 12,000 total landings since the date of installation on the airplane: Do the replacement prior to the accumulation of 10,000 total flight hours or 12,000 total landings on the pipes since the date of installation, or within 10 months after the effective date of this AD, whichever occurs latest. Thereafter, replace the fuel pipes with new pipes at intervals not to exceed 10,000 total flight hours or 12,000 total landings on the pipes, whichever occurs first. Replacement of the fuel pipes with serviceable pipes instead of new pipes is acceptable for compliance with the requirements of this paragraph, provided that: The total number of flight hours or total number of landings on those pipes can be verified, they have not accumulated 10,000 or more total flight hours or 12,000 or more total landings at the time of installation, and they are replaced prior to the accumulation of 10,000 total flight hours or 12,000 total landings (on the pipes).

(2) For fuel pipes that, as of the effective date of this AD, have accumulated 10,000 or more total flight hours or 12,000 or more total landings since the date of installation on the airplane: Do the replacement within 10 months after the effective date of this AD. Thereafter, replace the fuel pipes at intervals not to exceed 10,000 total flight hours or 12,000 total landings on the pipes, whichever occurs first. Replacement of the fuel pipes with serviceable pipes instead of new pipes is acceptable for compliance with the requirements of this paragraph, provided that: The total number of flight hours or total number of landings on those pipes can be verified, they have not accumulated 10,000 or more total flight hours or 12,000 or more total landings at the time of installation, and they are replaced prior to the accumulation of 10,000 total flight hours or 12,000 total landings (on the pipes).

(c) If any damage, crack, misalignment, or fuel leakage is found during the inspection required by paragraph (a)(1) of this AD, prior to further flight, replace the fuel pipes with new pipes, per BAE Systems (Operations) Limited Service Bulletin ATP-28-020, dated January 25, 2002. Before or upon the accumulation of 10,000 total flight hours or 12,000 total landings on the pipes, whichever occurs first, after the replacement required by this paragraph, replace the fuel pipes with new pipes. Thereafter, replace the fuel pipes at intervals not to exceed the accumulation of 10,000 total flight hours or 12,000 total landings on the pipes, whichever occurs first. Replacement of the fuel pipes with serviceable pipes instead of new pipes is acceptable for compliance with the requirements of this paragraph, provided that: The total number of flight hours or total number of landings on those pipes can be verified, they have not accumulated 10,000 or more total flight hours or 12,000 or more total landings at the time of installation, and they are replaced prior to the accumulation of 10,000 total flight hours or 12,000 total landings (on the pipes).

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Note 4: The subject of this AD is addressed in British airworthiness directives 003-03-2001 and 008-01-2002.

Issued in Renton, Washington, on February 20, 2003.
Ali Bahrami,
Acting Manager, Transport Airplane Directorate, Aircraft Certification Service.

[FR Doc. 03-4588 Filed 2-26-03; 8:45 am]

BILLING CODE 4910-13-P